DEPARTMENT OF COMMERCE

International Trade Administration

A-570-893

Certain Frozen Warmwater Shrimp from the People's Republic of China: Partial Rescission of the First Administrative Review

AGENCY: Import Administration, International Trade Administration, Department of Commerce.

EFFECTIVE DATE: July 31, 2006.

FOR FURTHER INFORMATION CONTACT: P. Lee Smith or Erin Begnal, AD/CVD Operations, Office 9, Import Administration, International Trade Administration, U.S. Department of Commerce, 14th Street and Constitution Avenue, N.W., Washington D.C. 20230; telephone: (202) 482-1655 and (202) 482-1442, respectively.

SUPPLEMENTARY INFORMATION:

Background

On April 7, 2006, the Department published in the Federal Register a notice of initiation listing 163 firms for which it received timely requests for an administrative review of this antidumping duty order. See Notice of Initiation of Administrative Reviews of the Antidumping Duty Orders on Certain Frozen Warmwater Shrimp from the Socialist Republic of Vietnam and the People's Republic of China, 71 FR 17813 (April 7, 2006) (“Initiation Notice”). The period of review (POR) is July 16, 2004 through January 31, 2006.

On May 19, 2006, Petitioner¹ withdrew its request for an administrative review of one company: Polypro Plastics.

¹ Ad Hoc Shrimp Trade Action Committee (“Petitioner”).

On July 6, 2006, Petitioner withdrew its request for an administrative review of 36 companies: Beihai Zhengwu Industry Co., Ltd.; Chaoyang Qiaofeng Group Co., Ltd. (Shantou Qiaofeng (Group) Co., Ltd.) (Shantou/Chaoyang Qiaofeng); Chengai Nichi Lan Foods Co., Ltd.; Citic Heavy Machinery; Dalian Ftz Sea-Rich International Trading Co., Ltd.; Dongri Aquatic Products Freezing Plants; Fuqing Dongwei Aquatic Products Industry Co. Ltd.; Gallant Ocean (Liangjiang) Co. Ltd.; Hainan Fruit Vegetable Food Allocation Co., Ltd.; Hainan Golden Spring Foods Co., Ltd/ Hainan Brich Aquatic Products Co., Ltd.; Jinfu Trading Co., Ltd.; Kaifeng Ocean Sky Industry Co., Ltd.; Leizhou Zhulian Frozen Food Co., Ltd.; Pingyang Xinye Aquatic Products Co. Ltd.; Savvy Seafood Inc.; Shanghai Taoen International Trading Co., Ltd.; Shantou Freezing Aquatic Product Food Stuff Co.; Shantou Jinhang Aquatic Industry Co., Ltd.; Shantou Jinyuan District Mingfeng Quick-Frozen Factory; Shantou Long Feng Foodstuffs Co., Ltd. (Shantou Longfeng Foodstuffs Co., Ltd.); Shantou Ruiyaun Industry Co., Ltd.; Shantou Shengping Oceanstar Business Co. Ltd.; Shantou Wanya Food Factory Co. Ltd.; Shantou Yuexing Enterprise Company; Xuwen Hailang Breeding Co., Ltd.; Yantai Wei-Cheng Food Co., Ltd.; Zhangjiang Bobogo Ocean Co., Ltd.; Zhangjiang Newpro Food Co., Ltd.; Zhanjiang Go-Harvest Aquatic Products Co., Ltd.; Zhanjiang Runhai Foods Co., Ltd.; Zhanjiang Universal Seafood Corp; Zhejiang Cereals, Oils, & Foodstuffs Import & Export Co., Ltd.; Zhoushan Cereals, Oils, and Foodstuffs Import and Export Co., Ltd.; Zhoushan Diciyuan Aquatic Products; Zhoushan Lizhou Fishery Co., Ltd.; and Zhoushan Xifeng Aquatic Co., Ltd.

Partial Rescission

Pursuant to section 351.213(d)(1) of the Department's regulations, the Secretary will rescind an administrative review, in whole or in part, if a party who requested the review withdraws the request within ninety days of the date of publication of notice of initiation of the requested review.

Because the Petitioner's requests for withdrawal were timely and no other party requested a review of the following companies, in accordance with section 351.213(d)(1) of the Department's regulations, we are rescinding this review with respect to the following 37 companies: Beihai Zhengwu Industry Co., Ltd.; Chaoyang Qiaofeng Group Co., Ltd. (Shantou Qiaofeng (Group) Co., Ltd.) (Shantou/Chaoyang Qiaofeng); Chengai Nichi Lan Foods Co., Ltd.; Citic Heavy Machinery; Dalian Ftz Sea-Rich International Trading Co., Ltd.; Dongri Aquatic Products Freezing Plants; Fuqing Dongwei Aquatic Products Industry Co. Ltd.; Gallant Ocean (Liangjiang) Co. Ltd.; Hainan Fruit Vegetable Food Allocation Co., Ltd.; Hainan Golden Spring Foods Co., Ltd/ Hainan Brich Aquatic Products Co., Ltd.; Jinfu Trading Co., Ltd.; Kaifeng Ocean Sky Industry Co., Ltd.; Leizhou Zhulian Frozen Food Co., Ltd.; Pingyang Xinye Aquatic Products Co. Ltd.; Polypro Plastics; Savvy Seafood Inc.; Shanghai Taoen International Trading Co., Ltd.; Shantou Freezing Aquatic Product Food Stuff Co.; Shantou Jinhang Aquatic Industry Co., Ltd.; Shantou Jinyuan District Mingfeng Quick-Frozen Factory; Shantou Long Feng Foodstuffs Co., Ltd. (Shantou Longfeng Foodstuffs Co., Ltd.); Shantou Ruiyaun Industry Co., Ltd.; Shantou Shengping Oceanstar Business Co. Ltd.; Shantou Wanya Food Factory Co. Ltd.; Shantou Yuexing Enterprise Company; Xuwen Hailang Breeding Co., Ltd.; Yantai Wei-Cheng Food Co., Ltd.; Zhangjiang Bobogo Ocean Co., Ltd.; Zhangjiang Newpro Food Co., Ltd.; Zhanjiang Go-Harvest Aquatic Products Co., Ltd.; Zhanjiang Runhai Foods Co., Ltd.; Zhanjiang Universal Seafood Corp; Zhejiang Cereals, Oils, & Foodstuffs Import & Export Co., Ltd.; Zhoushan Cereals, Oils, and Foodstuffs Import and Export Co., Ltd.; Zhoushan Diciyuan Aquatic Products; Zhoushan Lizhou Fishery Co., Ltd.; and Zhoushan Xifeng Aquatic Co., Ltd.

For those companies that submitted information stating that they did not have any shipments of subject merchandise during the POR, and for which there remains an active request for review, we will evaluate the no shipment information and may rescind the review for such companies at a later date.

Assessment Rates

The Department will instruct U.S. Customs and Border Protection (“CBP”) to assess antidumping duties on all appropriate entries. For those companies for which this review has been rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: July 24, 2006.
Stephen J. Claeys,
Deputy Assistant Secretary for Import Administration.

[FR Doc. E6-12219 Filed 7-28-06; 8:45 am]

BILLING CODE: 3510-DS-S